DEPARTMENT OF HOUSING AND URBAN DEVELOPMENT

[Docket No. FR-4723-FA-12]

Housing Counseling Program Announcement of Funding Awards for Fiscal Year 2002

AGENCY: Office of the Assistant Secretary for Housing—Federal Housing Commissioner, HUD.

ACTION: Announcement of funding awards.

SUMMARY: In accordance with section 102(a)(4)(C) of the Department of Housing and Urban Development Reform Act of 1989, this announcement notifies the public of funding decisions made by the Department in a SuperNOFA competition for funding of HUD-approved counseling agencies to provide counseling services. This announcement contains the names and addresses of the agencies selected for funding and the amount. Additionally, this announcement outlines various noncompetitive housing counseling awards made by the Department.

FOR FURTHER INFORMATION CONTACT: Margaret Burns, Director, Program Support Division, Room 9266, Office of Single Family Housing, Department of Housing and Urban Development, 451 Seventh Street, SW., Washington, DC 20410, telephone (202) 708-2121. Hearing- or speech-impaired individuals may access this number by calling the Federal Information Relay Service on 1-800-877-8339 or (202) 708-9300. (With the exception of the “800” number, these are not toll free numbers.)

SUPPLEMENTARY INFORMATION: The Housing Counseling Program is authorized by section 106 of the Housing and Urban Development Act of 1968 (12 U.S.C. 1701x). HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to improve the clients' housing conditions and meet the responsibilities of tenancy and homeownership.

The purpose of the grant is to assist HUD-approved housing counseling agencies in providing housing counseling services to HUD-related and other clients. HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of housing counseling program grants depends upon whether the U.S. Congress appropriates funds for this purpose, the amount of those funds, and the outcome of the competitions for award.

The 2002 grantees announced in Appendix A of this notice were selected for funding through a competition announced in a NOFA published in the Federal Register on March 26, 2002 (67 FR 14051), for the housing counseling program. Applications submitted for each competition were scored and selected for funding on the basis of selection criteria contained in the notice. HUD awarded $18,249,998 million in housing counseling grants to 334 housing counseling organizations nationwide: 306 local agencies, 12 intermediaries, and 16 State housing finance agencies. HUD also awarded two competitive housing counseling grants, totaling $250,000, to provide counseling services to families and individuals living in the Colonias, the Southwest Border Region of the U.S. These grants were awarded to West Tennessee Legal Services in the amount of $225,200 and Community Development Corporation of Brownsville, TX in the amount of $24,800.

Additionally, HUD awarded one noncompetitive housing counseling grant in the amount of $749,650 to the American Association of Retired Persons (AARP) to provide housing counseling services related to the Home Equity Conversion (HECM) Program.

Finally, HUD awarded three noncompetitive grants totaling $1.5 million to three organizations to provide counseling services to families and individuals living in properties eligible for participation in HUD's Mark to Market and Mark-up-to-Market programs. These grants were made in accordance with section 514 of the legislation entitled Multifamily Assisted Housing Reform and Affordability Act of 1997. Each of the following three groups were awarded a grant in the amount of $500,000: the National Foundation for Credit Counseling (NFCC), the Housing Partnership Network, and the Neighborhood Reinvestment Corporation (NRC).

The Catalog of Federal Domestic Assistance number for this program is 14.169.

In accordance with section 102(a)(4)(C) of the Department of Housing and Urban Development Reform Act of 1989 (103 Stat. 1987, 42 U.S.C. 3545), the Department is publishing the names, addresses, and award amounts as provided in Appendix A.

Dated: December 23, 2002.
Sean Cassidy,
General Deputy Assistant Secretary for Housing.

Appendix A

Fiscal Year 2002 Funding Awards for the Housing Counseling Program

Intermediary Organizations (12)

Acorn Housing Corporation, 846 N. Broad Street, Philadelphia, PA 19130, Amount Awarded: $1,167,044.00

Catholic Charities USA, 1731 King Street, Suite 200, Alexandria, VA 22314, Amount Awarded: $760,328.00

Citizens' Housing and Planning Association, 18 Tremont Street, Suite 401, Boston, MA 02108, Amount Awarded: $500,000.00

Housing Opportunities, Inc., 133 Seventh Avenue, P.O. Box 9, McKeesport, PA 15132, Amount Awarded: $760,328.00

McAuley Institute, 8300 Colesville Road, Suite 310, Silver Spring, MD 20910, Amount Awarded: $237,409.00

National Association of Real Estate Brokers, 1301 East 85th Avenue, Oakland, CA 94621-1605, Amount Awarded: $411,715.00

National Council of La Raza, 1111 19th Street, NW., Suite 1000, Washington, DC 20036, Amount Awarded: $1,050,839.00

National Foundation for Credit Counseling, 801 Roeder Road, Suite 900, Silver Spring, MD 20910, Amount Awarded: $1,500,000.00

National Urban League, 120 Wall Street, New York, NY 10005, Amount Awarded: $760,328.00

Neighborhood Reinvestment Corporation, 1325 G Street, NW., Suite 800, Washington, DC 20005-3100, Amount Awarded: $1,399,453.00

The Housing Partnership Network, Inc., 160 State Street, 5th Floor, Boston, MA 02109, Amount Awarded: $1,457,555.00

West Tennessee Legal Services, Inc., 210 West Main Street, P.O. Box 2066, Jackson, TN 38301, Amount Awarded: $395,000.00

State Housing Finance Agencies (16)

Atlanta (SHFA)

Georgia Housing & Finance Authority, 60 Executive Park South, NE, Atlanta, GA 30329-2231, Amount Awarded: $77,607.00

Kentucky Housing Corporation, 1231 Louisville Road, Frankfort, KY 40601, Amount Awarded: $72,766.00

Mississippi Home Corporation, 735 Riverside Drive, P.O. Box 22369, Jackson, MS 39225-3369, Amount Awarded: $34,043.00

Tennessee Housing Development Agency, 404 James Robertson Pkwy, Suite 1114, Nashville, TN 37243, Amount Awarded: $38,600.00

Virgin Islands Housing Finance Authority, 210-3A Altona Frostco Building, Suite 101, St. Thomas, VQ 00802, Amount Awarded: $32,000.00

Denver (SHFA)

South Dakota Housing Development Authority, P.O. Box 1237, Pierre, SD 57501-1237, Amount Awarded: $100,000.00

Philadelphia (SHFA)

Delaware State Housing Authority, Carvel State Building 801 North French Street, 10th Floor, Wilmington, DE 19801, Amount Awarded: $16,357.00

Maine State Housing Authority, 353 Water Street, Augusta, ME 04330-4633, Amount Awarded: $53,268.00

New Hampshire Housing Finance Authority, P.O. Box 5087, Manchester, NH 03108, Amount Awarded: $27,714.00

New Jersey Housing & Mortgage Finance Agency, 637 South Clinton Avenue, Trenton, NJ 08611, Amount Awarded: $22,036.00

Pennsylvania Housing Finance Agency, 2101 North Front Street, Harrisburg, PA 17105, Amount Awarded: $56,108.00

Rhode Island Housing & Mortgage Finance Corporation, 44 Washington Street, Providence, RI 02903, Amount Awarded: $27,714.00

State of Michigan, 735 E. Michigan, P.O. Box 30044—MSHDA, Lansing, MI 48909, Amount Awarded: $24,875.00

Virginia Housing Development Authority, 601 S. Belvedere Street, Richmond, VA 23220, Amount Awarded: $39,072.00

Santa Ana (SHFA)

Idaho Housing and Finance Association, 565 W. Myrtle, P.O. Box 7899, Boise, ID 83707-1899, Amount Awarded: $40,893.00

Washington State Housing Finance Commission, 1000 Second Avenue, Suite 2700, Seattle, WA 98104-1046, Amount Awarded: $183,392.00

Local Organizations (308)

Atlanta (HOC)

Access Living of Metropolitan Chicago, 614 West Roosevelt Road, Chicago, IL 60607, Amount Awarded: $35,303.00

Affordable Housing Coalition, 34 Wall Street, Suite 607, Asheville, NC 28801, Amount Awarded: $35,303.00

Affordable Housing Corporation, 601 S. Adams Street, Marion, IN 46953, Amount Awarded: $12,576.00

Alabama Council on Human Relations, P.O. Drawer 1632, 319 West Glenn Avenue, Auburn, AL 36831-1632, Amount Awarded: $5,000.00

Anderson Housing Authority, 528 West 11th Street, Anderson, IN 46016, Amount Awarded: $24,481.00

Appalachian Housing & Redevelopment Corporation, 800 North Fifth Avenue, Rome, GA 30162, Amount Awarded: $26,645.00

Birmingham Urban League, Inc., 1229 3rd Avenue North, P.O. Box 11269, Birmingham, AL 35203, Amount Awarded: $16,905.00

Campbellsville Housing and Redevelopment Authority, P.O. Box 597, 400 Ingram Avenue, Campbellsville, KY 42718, Amount Awarded: $11,494.00

Carolina Regional Legal Services, Inc., P.O. Box 479, 279 West Evans Street, Florence, SC 29503-0479, Amount Awarded: $17,987.00

CDBG Operations Corporation, Inc., 301 River Park Drive, East St. Louis, IL 62201, Amount Awarded: $29,892.00

CEFS Economic Opportunity Corporation, 1805 S. Banker Street, P.O. Box 928, Effingham, IL 62401, Amount Awarded: $14,740.00

CEIBA Housing & Economic Development Corporation, Avenue Lauro Pinero #252 (Altos), P.O. Box 203, Ceiba, PR 00735, Amount Awarded: $9,329.00

Chicago Commons Association, 3645 West Chicago Avenue, Chicago, IL 60651, Amount Awarded: $32,057.00

Citizens for Affordable Housing, Inc., 1719 West End Avenue, Suite 322W, Nashville, TN 37203, Amount Awarded: $10,411.00

City of Albany, Georgia, 230 S. Jackson St., Suite 315, Albany, GA 31701, Amount Awarded: $14,740.00

City of Bloomington House, P.O. Box 100, 401 North Morton Street, Bloomington, IN 47402, Amount Awarded: $22,316.00

Cobb Housing, Inc., 700 Sandy Plains Road, Suite B-8, Marietta, GA 30066, Amount Awarded: $14,740.00

Community Action & Community Development Agency, P.O. Box 1788, 207 Commerce Circle, SW., Decatur, AL 35601, Amount Awarded: $25,563.00

Community Action Agency Huntsville/Madison & Limestone, 3516 Springfield Road, P.O. Box 3975, Huntsville, AL 35810-0975, Amount Awarded: $7,165.00

Community Action Agency of Northwest AL, 745 Thompson Street, Florence, AL 35630, Amount Awarded: $10,000.00

Community and Economic Development Assoc. of Cook County, 208 South LaSalle, Suite 1900, Chicago, IL 60604-1001, Amount Awarded: $21,234.00

Community Equity Investments, Inc. (CEII), 302 North Barcelona Street, Pensacola, FL 32501, Amount Awarded: $15,823.00

Community Housing Initiative, Inc., P.O. Box 410522, 3033 College Wood Drive, Melbourne, FL 32941, Amount Awarded: $11,485.00

Consumer Credit Counseling of NWI, Inc., 3637 Grant Street, Gary, IN 46408-1439, Amount Awarded: $12,576.00

Consumer Credit Counseling Service of FL. Gulf Coast, Inc., 5201 W. Kennedy Blvd., Suite 110, Tampa, FL 33609, Amount Awarded: $22,316.00

Consumer Credit Counseling Service of Forsyth County, Inc., 8064 North Point Boulevard, Suite 204, Winston-Salem, NC 27106, Amount Awarded: $27,727.00

Consumer Credit Counseling Service of West Florida, 14 Palafox Place, Pensacola, FL 32501, Amount Awarded: $10,411.00

Consumer Credit Counseling Service of Western NC, 50 South French Broad Ave., Suite 227, Ashville, NC 28801, Amount Awarded: $24,481.00

Cumberland Community Action Program, Inc., P.O. Box 2009, 316 Green Street, Fayetteville, NC 28302, Amount Awarded: $28,810.00

Dekalb Fulton Housing Counseling Center, Inc., 4151 Memorial Drive, Suite 107-E, Decatur, GA 30032, Amount Awarded: $34,221.00

Dupage Homeownership Center, Inc., 1333 North Main Street, Wheaton, IL 60187, Amount Awarded: $32,490.00

East Athens Development Corporation, Inc., 410 McKinley Drive, Suite 101,

Athens, GA 30601, Amount Awarded: $33,139.00

Economic Opportunity for Savannah-Chatham County Area, Inc., 618 West Anderson Street, P.O. Box 1353, Savannah, GA 31401, Amount Awarded: $35,303.00

Elizabeth City State University, 1704 Weeksville Road, Campus Box 761, Elizabeth City, NC 27909, Amount Awarded: $28,875.00

Family and Children's Services of Chattanooga, Inc., CCCS 5704 Marlin Road, Suite 2300, Chattanooga, TN 37411, Amount Awarded: $12,576.00

Family Counseling Services, 220 Coral Sands Drive, Rockledge, FL 32955, Amount Awarded: $35,303.00

Family Service Center, 1800 Main Street, Columbia, SC 29201, Amount Awarded: $17,987.00

Family Services, Inc., 4925 Lacross Road, Suite 215, North Charleston, SC 29406, Amount Awarded: $12,576.00

Fort Wayne Urban League, Inc., 227 East Washington Boulevard, Fort Wayne, IN 46802, Amount Awarded: $7,165.00

Gainesville/Hall County Neighborhood Revitalization, P.O. Box 642, Gainesville, GA 30503, Amount Awarded: $25,563.00

Goldenrule Housing & Community Development, 417 East 2nd Street, Sanford, FL 32771, Amount Awarded: $7,165.00

Greenville County Human Relations Commission, 301 University Ridge, Suite 1600, Greenville, SC 29601, Amount Awarded: $20,000.00

Gulf Coast Community Action Agency, Inc., 500 24th Street, P.O. Box 519, Gulfport, MS 39502-0519, Amount Awarded: $37,468.00

Gwinnett Housing Resource Partnership, Inc., 3453 Holcomb Bridge Road, Suite 140, Norcross, GA 30092, Amount Awarded: $36,386.00

Hammond Housing Authority, 7329 Columbia Circle—West, Hammond, IN 46324, Amount Awarded: $19,069.00

Homekeeping Mortgage Default Counseling, 2808 Four Seasons Blvd., Greensboro, NC 27406, Amount Awarded: $9,329.00

Homes in Partnership, Inc., 235 E. Fifth Street, P.O. Box 761, Apopka, FL 32704-0761, Amount Awarded: $9,329.00

Hoosier Uplands Economic Development Corporation, 521 West Main Street, Mitchell, IN 47446, Amount Awarded: $11,494.00

Hope of Evansville, Inc., 608 Cherry Street, Evansville, IN 47713, Amount Awarded: $17,987.00

Housing and Economic Leadership Partners, Inc., 485 Huntington Road, Suite 200, Athens, GA 30606, Amount Awarded: $20,000.00

Housing and Neighborhood Dev. Serv of Central Florida, 990 North Bennett Avenue, Winter Park, FL 32789, Amount Awarded: $28,810.00

Housing Authority of the Birmingham District, 1826 3rd Avenue South, Birmingham, AL 25233, Amount Awarded: $12,576.00

Housing Authority of the City of Fort Wayne, P.O. Box 13489, 2013 South Anthony Blvd., Fort Wayne, IN 46869-3489, Amount Awarded: $13,658.00

Housing Authority of the City of High Point, 500 East Russell Avenue, Post Office Box 1779, High Point, NC 27260, Amount Awarded: $28,810.00

Housing Authority of the County of Lake, 33928 North Route 45, Grayslake, IL 60030, Amount Awarded: $12,003.00

Housing Development Corporation of St. Joseph County, 1200 County City Building, South Bend, IN 46601, Amount Awarded: $17,987.00

Housing Education and Economic Development, 3405 Medgar Evers Blvd., Jackson, MS 39213, Amount Awarded: $20,152.00

Indianapolis Urban League, 777 Indiana Avenue, Indianapolis, IN 46202, Amount Awarded: $13,658.00

Jefferson County Committee for Economic Opportunity, 300 Eighth Ave. West, Birmingham, AL 35204, Amount Awarded: $5,000.00

Johnston-Lee Community Action, Inc., P.O. Drawer 711, 1102 Massey Street Smithfield, NC 27577, Amount Awarded: $11,494.00

Latin American Association, 2665 Buford Highway, Atlanta, GA 30324, Amount Awarded: $26,645.00

Latin United Community Housing Association, 3541 W. North Avenue, Chicago, IL 60647, Amount Awarded: $32,057.00

Legal Assistance Foundation of Chicago, 111 West Jackson Blvd., Chicago, IL 60604, Amount Awarded: $33,139.00

Lincoln Hills Development Corporation, 302 Main Street, P.O. Box 336, Tell City, IN 47586, Amount Awarded: $9,329.00

Manatee Coalition for Affordable Housing, Inc., 319 6th Avenue West, Bradenton, FL 34205, Amount Awarded: $25,563.00

Manatee Opportunity Council, Inc., 369 6th Avenue West, Bradenton, FL 34205, Amount Awarded: $17,987.00

Memphis Area Legal Services, 109 N. Main, Suite 200, Memphis, TN 38103-5013, Amount Awarded: $29,892.00

Miami Beach Community Development Corporation, 945 Pennsylvania Avenue, 2nd Floor, Miami Beach, FL 33139, Amount Awarded: $23,398.00

Mid-Florida Housing Partnership, Inc., 330 North Street, P.O. Box 1345, Daytona Beach, FL 32114, Amount Awarded: $15,823.00

Middle Georgia Community Action Agency, Inc., P.O. Box 2286, 121 Prince Street, Warner Robins, GA 31099, Amount Awarded: $28,600.00

Mobile Housing Board, 151 South Claiborne Street, P.O. Box 1345, Mobile, AL 36633-1345, Amount Awarded: $9,329.00

Muncie Homeownership and Development Center, 407 South Walnut Street, Muncie, IN 47305, Amount Awarded: $10,411.00

Neighborhood Housing Opportunities, Inc., 1548 Poplar Avenue, Memphis, TN 38104, Amount Awarded: $12,000.00

Northeastern Community Development Corp., P.O. Box 367, 154 Highway 158 East, Camden, NC 27921, Amount Awarded: $17,987.00

Northwestern Regional Housing Authority, P.O. Box 2510, 869 Hwy. 105 Ext., Boone, NC 28607, Amount Awarded: $25,563.00

Ocala Housing Authority, 233 S.W. 3rd Street, Ocala, FL 34474, Amount Awarded: $25,000.00

Organized Community Action Program, P.O. Box 908, Troy, AL 36081, Amount Awarded: $8,247.00

Partnership for Homeownership, Inc., 3180 Adloff Lane, Suite 400, Springfield, IL 62703, Amount Awarded: $5,000.00

Purchase Area Housing Corporation, P.O. Box 588, Mayfield, KY 42066, Amount Awarded: $7,165.00

Reach, Inc, 126 North Broadway, Lexington, KY 40507, Amount Awarded: $8,247.00

Realtor-Community Housing Foundation, 2250 Regency Road, Lexington, KY 40503, Amount Awarded: $12,576.00

Residential Resources, Inc., 602 Gallatin Road, Suite 102, Nashville, TN 37206, Amount Awarded: $17,987.00

River City Community Development Corporation, 501 E. Main Street, Elizabeth City, NC 27909, Amount Awarded: $5,000.00

Rogers Park Community Council, 1530 W. Morse Avenue, Chicago, IL 60626, Amount Awarded: $6,082.00

Sacred Heart Southern Missions Housing Corp., 6144 Highway 161 North, P.O. Box 365, Walls, MS 38680, Amount Awarded: $19,069.00

Sampson County CDC, 9936 Hobbton Highway, Clinton, NC 28328, Amount Awarded: $21,234.00

Sandhills Community Action Program, Inc., 103 Saunders Street, P O. Box 937, Carthage, NC 28327, Amount Awarded: $13,658.00

South Suburban Housing Center, 18220 Harwood Avenue, Suite 1, Homewood, IL 60430, Amount Awarded: $20,152.00

Spanish Coalition for Housing, 4035 West North Avenue, Chicago, IL 60639, Amount Awarded: $25,563.00

Tallahassee Lenders' Consortium Inc., 1114 East Tennessee Street, Tallahassee, FL 32308, Amount Awarded: $23,398.00

Tallahassee Urban League, Inc., 923 Old Bainbridge Road, Tallahassee, FL 32303, Amount Awarded: $19,069.00

Tenant Services & Housing Counseling, Inc., 136 North Martin Luther King Blvd., Lexington, KY 40507, Amount Awarded: $16,905.00

The Center for Affordable Housing, Inc., 203 E. Third Street, Suite 201, Sanford, FL 32771, Amount Awarded: $21,150.00

The Housing Authority of the City of Montgomery, 1020 Bell Street, Montgomery, AL 36104-3056, Amount Awarded: $8,247.00

Trident United Way, 6296 Rivers Avenue, P.O. Box 63305, North Charleston, SC 29419, Amount Awarded: $20,152.00

Unified Government of Athens-Clarke County, P.O. Box 1868, 375 Satula Ave., Athens, GA 30601, Amount Awarded: $26,645.00

Vollintine Evergreen Community Association (VECA)-CDC, 1680 Jackson Avenue, Memphis, TN 38107, Amount Awarded: $10,411.00

Wateree Community Action, Inc., P.O. Box 1838, 13 South Main Street, Sumter, SC 29150, Amount Awarded: $15,000.00

West Perrine Community Development Corporation, 17623 Homestead Avenue, Miami, FL 33157, Amount Awarded: $5,000.00

Willow Nonprofit Housing, Inc., P.O. Box 383, 200 A Commerce Street, Hayneville, AL 36040, Amount Awarded: $9,329.00

Wilmington Housing Finance and Development, P.O. Box 547, 310 North Front Street, Wilmington, NC 28402, Amount Awarded: $30,000.00

Woodbine Community Organization, 222 Oriel Avenue, Nashville, TN 37210, Amount Awarded: $26,645.00

Denver (HOC)

Adams County Housing Authority, 7190 Colorado Blvd., Commerce City, CO 80022, Amount Awarded: $56,739.00

Boulder County Housing Authority, P.O. Box 471, Boulder, CO 80306, Amount Awarded: $44,700.00

Carver County Housing & Redevelopment Authority, 705 Walnut Street, Chaska, MN 55318, Amount Awarded: $45,908.00

CCCS of Central Oklahoma, Inc., 3230 N. Rockwell Avenue, Bethany, OK 73008, Amount Awarded: $37,495.00

Chickasaw Nation, Division of Housing, P.O. Box 788, Ada, OK 74821-0788, Amount Awarded: $19,050.00

City of Fort Worth, Housing Department, 1000 Throckmorton Street, Fort Worth, TX 76102, Amount Awarded: $60,349.00

City of San Antonio, 115 Plaza de Armas, Suite 230, San Antonio, TX 78205, Amount Awarded: $27,854.00

Community Action Agency of Oklahoma City and OK/CN Counties, 1900 N.W. 10th Street, Oklahoma City, OK 73106, Amount Awarded: $21,080.00

Community Action Project of Tulsa County, 717 S. Houston Avenue, Suite 200, Tulsa, OK 74127, Amount Awarded: $50,000.00

Community Action Services, 257 East Center Street, Provo, UT 84606, Amount Awarded: $32,000.00

Community Action, Inc. of Rock and Walworth Counties, 2300 Kellogg Avenue, Janesville, WI 53546, Amount Awarded: $15,000.00

Community Development Authority of the City of Madison, 215 Martin Luther King Jr. Blvd, Suite 318, P.O. Box 1785, Madison, WI 53701-1785, Amount Awarded: $61,176.00

Community Development Corporation of Brownsville, 901 East Levee Street, Brownsville, TX 78520, Amount Awarded: $45,000.00

Community Development Support Association (CDSA), 2615 E. Randolph, Enid, OK 73701, Amount Awarded: $30,000.00

Community Services League, 300 W. Maple, P.O. Box 4178, Independence, MO 64051, Amount Awarded: $36,303.00

Dakota Plains Legal Services, Inc., 528 Kansas City Street, Rapid City, SD 57709, Amount Awarded: $20,000.00

Family Housing Advisory Services, Inc., 2416 Lake Street, Omaha, NE 68111, Amount Awarded: $100,000.00

Family Management Credit Counselors, Inc. (FMCCI), 1409 W. 4th Street, Waterloo, IA 50702, Amount Awarded: $20,000.00

Hawkeye Area Community Action Program, Inc., 1515 Hawkeye Drive, P.O. Box 490, Hiawatha, IA 52233-0490, Amount Awarded: $25,000.00

High Plains Community Development Corp. Inc., 130 East Second Street, Chadron, NE 69337, Amount Awarded: $39,914.00

Housing and Credit Counseling, Inc., 1195 SW Buchanan, Suite 101, Topeka, KS 66604-1183, Amount Awarded: $71,180.00

Housing Authority of the City of Muskogee, 220 North 40th Street, Muskogee, OK 74401, Amount Awarded: $6,191.00

Housing Authority of the City of Stillwater, 807 S. Lowry, Stillwater, OK 74074, Amount Awarded: $24,244.00

Housing Options Provided for the Elderly, 4265 Shaw, St. Louis, MO 63110, Amount Awarded: $12,000.00

Housing Partners of Tulsa, Inc., P.O. Box 6369, Tulsa, OK 74148, Amount Awarded: $27,854.00

Interfaith of Natrona County, Inc., 1514 East 12th Street, #303, Casper, WY 82601, Amount Awarded: $7,419.00

Iowa Citizens for Community Improvement, 2005 Forest Avenue, Des Moines, IA 50311, Amount Awarded: $25,000.00

Justine Petersen Housing & Reinvestment Corp., 5031 Northrup Avenue, St. Louis, MO 63110, Amount Awarded: $82,012.00

KI Bois Community Action Foundation, Inc., P.O. Box 727, Stigler, OK 74462, Amount Awarded: $17,081.00

Lafayette Consolidated Government, P.O. Box 4017-C, Lafayette, LA 70502-4017, Amount Awarded: $20,000.00

Legal Aid of Central Texas, 2201 Post Road, Suite 104, Austin, TX 78704, Amount Awarded: $50,000.00

Legal Aid Society of Albuquerque, Inc., P.O. Box 25486, Albuquerque, NM 87125-5486, Amount Awarded: $30,000.00

Legal Services of Eastern Missouri, Inc., 4232 Forest Park Avenue, St. Louis, MO 63108, Amount Awarded: $68,493.00

Lincoln Action Program, Inc., 210 O Street, Lincoln, NE 68508, Amount Awarded: $32,500.00

Metro Affordable Housing Corporation, 5118 Gallagher Avenue, Laredo, TX 78041, Amount Awarded: $9,802.00

Neighbor to Neighbor, Inc., 424 Pine Street, Suite 203, Fort Collins, CO 80524, Amount Awarded: $30,000.00

Norman Housing Authority, 700 N. Berry Road, Norman, OK 73069, Amount Awarded: $45,908.00

Northeast Denver Housing Center, 1735 Gaylord Street, Denver, CO 80206, Amount Awarded: $12,221.00

Northern Arapaho Tribal Housing, P.O. Box 8236, Ethete, WY 82520, Amount Awarded: $29,082.00

Oglala Sioux Tribe Partnership for Housing, Inc., P.O. Box 3001, Pine Ridge, SD 57770, Amount Awarded: $19,442.00

Senior Housing, Inc., 2021 East Hennipin, Suite 372, Minneapolis, MN 55413, Amount Awarded: $18,249.00,

Southeastern North Dakota Community Action Agency, 3233 South University Drive, P.O. Box 2683, Fargo, ND 58104, Amount Awarded: $14,000.00

Southern Minnesota Regional Legal Service, 700 Minnesota Building, 46 East Fourth Street, St. Paul, MN 55101, Amount Awarded: $30,000.00

St. Paul Urban League, 401 Selby Avenue, St. Paul, MN 55102, Amount Awarded: $30,000.00

T.A.C.T.I.C.S., Inc, DBA Pilot City Neighborhood Services, 1315 Penn Avenue North, Minneapolis, MN 55411, Amount Awarded: $5,000.00

United Neighbors, Inc., 808 Harrison Street, Davenport, IA 52803, Amount Awarded: $13,412.00

Universal Housing Development Corp., P.O. Box 846, Russellville, AR 72811, Amount Awarded: $44,716.00

West Central Missouri Community Action Agency, 106 W. 4th, P.O. Box 125, Appleton City, MO 64724, Amount Awarded: $12,221.00

Women's Opportunity & Resource Development, 127 N. Higgins, Suite 307, Missoula, MT 59802, Amount Awarded: $30,000.00

Youth Education and Health in Soulard, 1921 S. 9th Street, St. Louis, MO 63104, Amount Awarded: $17,971.00

Philadelphia (HOC)

Affordable Homes of Millville Ecumenical (Ahome), Inc., P.O. Box 241, Millville, NJ 08332, Amount Awarded: $6,950.00

Albany County Rural Housing Alliance, Inc., P.O. Box 407, 24 Martin Road, Voorheesville, NY 12186, Amount Awarded: $17,383.00

Arundel Community Development Services, Inc., 2660 Riva Road, Suite 210, Annapolis, MD 21401, Amount Awarded: $22,020.00

Asian Americans for Equality, Inc., 111 Division Street, New York, NY 10002, Amount Awarded: $19,122.00

Belmont Shelter Corporation, 1195 Main Street, Buffalo, NY 14209-2196, Amount Awarded: $17,962.00

Berks Community Action Program/Budget Counseling Center, P.O. Box 22, Berks County, Reading, PA 19603-0022, Amount Awarded: $15,644.00

Berkshire County Regional Housing Authority, 150 North Street, Pittsfield, MA 01201, Amount Awarded: $16,803.00

Better Housing League of Greater Cincinnati, 2400 Reading Road, Cincinnati, OH 45202, Amount Awarded: $20,860.00

Better Neighborhoods Incorporated, 986 Albany Street, Schenectady, NY 12307, Amount Awarded: $21,440.00,

Bishop Sheen Ecumenical Housing Foundation, Inc., 935 East Avenue, Suite 300, Rochester, NY 14607, Amount Awarded: $18,500.00

Catholic Charities, Diocese of Metuchen, 540-550 Route 22 East (Bridgewater), Somerset, NJ 08807, Amount Awarded: $8,688.00

Center City Neighborhood Development Corporation, 1824 Main Street, Niagara Falls, NY 14305, Amount Awarded: $18,542.00

Chautauqua Opportunities, Inc., 17 West Courtney Street, Dunkirk, NY 14048, Amount Awarded: $22,600.00

Chester Community Improvement Project, 412 Avenue of the States, Chester, PA 19016, Amount Awarded: $16,223.00

Citizen Action of New Jersey, 400 Main Street, Hackensack, NJ 07601, Amount Awarded: $15,064.00

City of Frederick, 100 South Market Street, Frederick County, Frederick, MD 21701, Amount Awarded: $8,000.00

Coastal Enterprises, Inc., 36 Water Street, P.O. Box 268, Wiscasset, ME 04578, Amount Awarded: $19,122.00

Commission on Economic Opportunity, 165 Amber Lane, P.O. Box 1127, Wilkes-Barre, PA 18703, Amount Awarded: $16,223.00

Community Action Commission of Belmont Cty, 410 Fox-Shannon Place, St. Clairsville, OH 43950, Amount Awarded: $20,281.00

Community Action Committee of the Lehigh Valley, Inc., 651 East Broad Street, Bethlehem, PA 18018, Amount Awarded: $19,122.00

Community Action in Self Help, Inc., 48 Water Street, Lyons, NY 14489, Amount Awarded: $5,790.00

Community Action Program-Madison County, 3 East Main Street, P.O. Box 249, Morrisville, NY 13408, Amount Awarded: $22,600.00

Community Action Southwest, 150 West Beau Street, Suite 304, Washington, PA 15301, Amount Awarded: $10,427.00

Community Assistance Network, Inc., 7701 Dunmanway, Baltimore, MD 21222, Amount Awarded: $13,325.00

Community Development Corporation of Long Island, 2100 Middle Country Road, Centereach, NY 11720, Amount Awarded: $20,281.00

Community Housing, Inc., 613 Washington Street, Wilmington, DE 19801, Amount Awarded: $19,701.00

Community Service Network Inc., 52 Broadway, Stoneham, MA 01800, Amount Awarded: $17,962.00

Consumer Credit Counseling Service of Greater Washington, 15847 Crabbs Branch Way, Rockville, MD 20855, Amount Awarded: $14,485.00

Consumer Credit Counseling Service of the Kanawha Valley, 8 Capitol Street, Suite 200, Kanawha Valley, Charleston, WV 25301, Amount Awarded: $7,529.00

Cortland Housing Assistance Council, Inc., 159 Main Street, Cortland, NY 13045, Amount Awarded: $12,746.00

County Commissioners of Carroll County, 10 Distillery Drive, Suite 101, Westminster, MD 21157-5194, Amount Awarded: $17,383.00

Credit Counseling Centers, Inc., 111 Westcott Road, South Portland, ME 04106, Amount Awarded: $13,905.00

Cypress Hills Local Development Corp., 625 Jamaica Avenue, Kings County, Brooklyn, NY 11208, Amount Awarded: $20,860.00

Detroit Non-Profit Housing Corporation, 1200 Sixth Street, Suite 404, Detroit, MI 48226, Amount Awarded: $6,950.00

Druid Heights Community Development Corporation, 1821 McCulloh Street, Baltimore, MD 21217, Amount Awarded: $14,485.00

Fair Housing Contact Service, 333 South Main Street, Suite 300, Akron, OH 44308, Amount Awarded: $7,529.00

Family and Children's Association, 336 Fulton Avenue, Hempstead, NY 11550, Amount Awarded: $19,701.00

Family Service—Upper Ohio Valley, 51 Eleventh Street, Wheeling, WV 26003, Amount Awarded: $5,790.00

Fayette County Community Action Agency, Inc., 140 N. Beeson Avenue, Uniontown, PA 15401, Amount Awarded: $6,950.00

Garfield Jubilee Association, Inc., 5138 Penn Avenue, Pittsburgh, PA 15224, Amount Awarded: $15,000.00

Garrett County Community Action Committee, Inc., 104 E. Center Street, Oakland, MD 21550, Amount Awarded: $15,644.00

Govans Economic Management Senate, Inc., 4324 York Road, Suite 203, Baltimore, MD 21212, Amount Awarded: $17,383.00

Greater Boston Legal Services, Inc., 197 Friend Street, Boston, MA 02114, Amount Awarded: $18,542.00

Greater Erie Community Action Committee, 18 West 9th Street, Erie, PA 16501, Amount Awarded: $12,746.00

Harford County, 15 South Main Street, Suite 106, Harford County, Bel Air, MD 21014, Amount Awarded: $12,166.00

Harlem Park Revitalization Corporation, 1017 Edmondson Avenue, Baltimore, MD 21223, Amount Awarded: $15,064.00

Hill Development Corporation of New Haven, 649 Howard Avenue, New Haven, CT 06519, Amount Awarded: $11,007.00

Home Partnership, Inc., 1221 B Brass Mill Road, Belcamp, MD 21017, Amount Awarded: $15,000.00

Homes on the Hill Community Development Corporation, 12 South Terrace Avenue, Columbus, OH 43204, Amount Awarded: $5,211.00

Housing Authority of the City of Paterson, 60 Van Houten Street, Paterson, NJ 07509, Amount Awarded: $5,790.00

Housing Authority of the County of Butler, 114 Woody Drive, Butler, PA 16001, Amount Awarded: $20,860.00

Housing Coalition of Central Jersey, 78 New Street, New Brunswick, NJ 08901, Amount Awarded: $12,166.00

Housing Consortium for Disabled Individuals, 4701 Pine Street, Box 28, Philadelphia, PA 19143, Amount Awarded: $15,064.00

Housing Council of York, Inc., 116 North George Street, York County, York, PA 17401, Amount Awarded: $16,223.00

Housing Counseling Services, Inc., 2430 Ontario Road, NW., Washington, DC 20009, Amount Awarded: $19,122.00

Housing Initiative Partnership, Inc., 4310 Gallatin Street, 3rd Floor, Hyattsville, MD 20781, Amount Awarded: $20,281.00

Housing Opportunities Made Equal of Richmond, Inc., 2201 West Broad Street, Suite 200, Richmond, VA 23220, Amount Awarded: $20,860.00

Jamaica Housing Improvement, Inc, 161-10 Jamaica Avenue, Suite 601, Jamaica, NY 11432, Amount Awarded: $19,701.00

Jersey Counseling & Housing Development, Inc., 1840 South Broadway, Camden City, NJ 08104, Amount Awarded: $13,905.00

Kanawha Institute for Social Research and Action, 124 Marshall Avenue, Dunbar, WV 25064, Amount Awarded: $17,383.00

Long Island Housing Services, Inc., 3900 Veterans Memorial Highway, Suite 251, Bohemia, NY 11716, Amount Awarded: $12,746.00

Lutheran Housing Corporation, 13944 Euclid Avenue, Suite 208, East Cleveland, OH 44112, Amount Awarded: $5,211.00

Lynchburg Community Action Group, Inc., 926 Commerce Street, Lynchburg, VA 24504, Amount Awarded: $9,268.00

Margert Community Corporation, 1931 Mott Avenue, Room 412, Far Rockaway, NY 11691, Amount Awarded: $17,962.00

Marshall Heights Community Dev., Org, 3939 Benning Road, NE., Washington, DC 20019, Amount Awarded: $13,325.00

Maryland Rural Development Corporation, P.O. Box 4848, Annapolis, MD 21403, Amount Awarded: $10,427.00

Massillon Urban League, 325 Third Street, SE., Massillon, OH 44646, Amount Awarded: $18,542.00

Metro Interfaith Services, Inc., 21 New Street, Binghamton, NY 13903, Amount Awarded: $15,000.00

Michigan Housing Counselors, Inc., 237 S.B. Gratiot Avenue, Mt. Clemens, MI 48043, Amount Awarded: $5,790.00

Mid-Ohio Regional Planning Commission, 285 East Main Street, Franklin County, Columbus, OH 43215-5272, Amount Awarded: $20,281.00

Monmouth County Board of Chosen Freeholders, P.O. Box 3000, Freehold, NJ 07728, Amount Awarded: $14,485.00

Ncall Research, Inc., 20 East Division Street, P.O. Box 1092, Dover, DE 19903-1092, Amount Awarded: $19,122.00

Near Northeast Community Improvement Corporation, 1326 Florida Avenue, NE.. Washington, DC 20002, Amount Awarded: $12,746.00

Neighborhood House, Inc., 1218 B Street, New Castle County, Wilmington, DE 19801, Amount Awarded: $15,644.00

Neighborhood Housing Services of New Britain, Inc., 223 Broad Street, New Britain, CT 06053, Amount Awarded: $18,542.00

Neighborhood Housing Services of NYC, 121 W. 27th Street, 4th Floor, New York, NY 10001, Amount Awarded: $10,427.00

Neighbors Helping Neighbors, Inc., 443 39th Street, Brooklyn, NY 11232, Amount Awarded: $22,020.00

Northfield Community LDC of SI, Inc., 160 Heberton Avenue, Staten Island, NY 10302, Amount Awarded: $13,905.00

Northwest Counseling Service, Inc., 5001 North Broad Street, Philadelphia, PA 19141, Amount Awarded: $19,701.00

Northwest Michigan Human Services Agency, Inc., 3963 Three Mile Rd., Traverse City, MI 49686, Amount Awarded: $16,223.00

Nueva Esperanza, 4261 North 5th Street, Philadelphia, PA 19140, Amount Awarded: $7,529.00

O.C.E.A.N., Inc., 40 Washington Street, Tom River, NJ 08754, Amount Awarded: $8,688.00

Oakland County Michigan, 1200 North Telegraph Road, Oakland County, Pontiac, MI 48341-0414, Amount Awarded: $20,281.00

Open Housing Center, Inc., 45 John Street, Suite #308, New York, NY 10038, Amount Awarded: $5,790.00

Opportunities for Chenango, Inc., P.O. Box 470, 44 West Main Street, Norwich, NY 13815-0470, Amount Awarded: $16,640.00

Philadelphia Council for Community Advancement, 100 North 17th Street, Suite 700, Philadelphia, PA 19107, Amount Awarded: $20,860.00

Phoenix Non-Profit Housing Corp., 1640 Porter Street, Detroit, MI 48216, Amount Awarded: $5,211.00

Phoenixville Homes, P.O. Box 67, Spring City, PA 19475, Amount Awarded: $5,790.00

Piedmont Housing Alliance, 2000 Holiday Drive, Suite 200, Charlottesville, VA 22901, Amount Awarded: $9,848.00

Pine Tree Legal Assistance, Inc., 88 Federal Street, Portland, ME 04112, Amount Awarded: $17,962.00

Plymouth Redevelopment Authority, 11 Lincoln Street, Plymouth, MA 02360, Amount Awarded: $16,223.00

Prince William County, 8033 Ashton Avenue, Suite 105, Manassas, VA 20109, Amount Awarded: $9,848.00

Pro-Home, Inc., 45 School Street, Taunton, MA 02780, Amount Awarded: $15,644.00

Putnam County Housing Corporation, 11 Seminary Hill Road, Carmel, NY 10512, Amount Awarded: $19,701.00

Quincy Community Action Programs, Inc., 1509 Hancock Street, Norfolk County, Quincy, MA 02169, Amount Awarded: $17,962.00

Roanoke Redevelopment and Housing Authority, 2624 Salem Turnpike, NW., P.O. Box 6359, Roanoke, VA 24107, Amount Awarded: $8,688.00

Rockland Housing Action Coalition, Inc, 747 Chestnut Street, Chestnut Ridge, NY 10977, Amount Awarded: $15,644.00

Roots of Mankind Corporation, Park Place Professional Center, 5835 Allentown Road, Suitland, MD 20746, Amount Awarded: $9,848.00

Rural Sullivan Housing Corporation, P.O. Box 1497, Monticello, NY 12701, Amount Awarded: $15,000.00

Rural Ulster Preservation Company, Inc., 289 Fair Street, Ulster County, Kingston, NY 12401, Amount Awarded: $17,383.00

Schuylkill Community Action, 206 North Second Street, Pottsville, PA 17901, Amount Awarded: $17,962.00

Shore Up, Inc., 520 Snow Hill Road, P.O. Box 430, Salisbury, MD 21803, Amount Awarded: $15,644.00

Somerset County Coalition on Affordable Housing, One West Main Street, 2nd Floor, Somerville, NJ 08876, Amount Awarded: $21,440.00

South Bronx Action Group, Inc., 384 149th Street, Bronx, NY 10455, Amount Awarded: $5,211.00

Southeast Community Development Corporation, 10 South Wolfe Street, Baltimore, MD 21231, Amount Awarded: $21,440.00

Southside Community Development & Housing Corp., 1624 Hull Street, Richmond, VA 23224, Amount Awarded: $8,688.00

St. Ambrose Housing Aid Center, 321 East 25th Street, Baltimore, MD 21218, Amount Awarded: $13,325.00

St. James Community Development Corporation, 260 Broadway, Suite 300, Newark, NJ 07104, Amount Awarded: $13,905.00

Tabor Community Services Inc., 439 East King Street, Lancaster, PA 17602, Amount Awarded: $16,223.00

Telamon Corporation, 4913 Fithzhugh Avenue, Suite 202, Richmond, VA 23230, Amount Awarded: $6,370.00

The Fair Housing Council of Capital Region, Inc., 2100 North Sixth Street, Dauphin County, Harrisburg, PA 17110, Amount Awarded: $5,211.00

The Housing Council in the Monroe County Area, 183 East Main Street, Suite 1100, Rochester, NY 14604, Amount Awarded: $20,281.00

The Trehab Center, 10 Public Avenue, P.O. Box 366, Montrose, PA 18801, Amount Awarded: $20,000.00

The Way Home, 214 Spruce Street, Manchester, NH 03103, Amount Awarded: $22,020.00

Total Action Against Poverty (TAP), 145 Campbell Avenue, SW., Roanoke, VA 24001-2868, Amount Awarded: $20,281.00

Trcil Services, Inc., 900 Rebecca Avenue, Wilkinsburg, PA 15221, Amount Awarded: $13,325.00

Tri-Churches Housing, Inc., 815 Scott Street, Baltimore, MD 21230, Amount Awarded: $14,000.00

Tri-County Community Action Program, 30 Exchange Street, Berlin, NH 03570, Amount Awarded: $12,746.00

Unemployment Information Center, 1201 Chestnut Street, Suite 702, Philadelphia, PA 19107, Amount Awarded: $14,485.00

United Neighborhood Centers of Lackawanna County, Inc., 425 Alder Street, Scranton, PA 18505, Amount Awarded: $6,370.00

University Legal Services, 300 I Street, NE., Suite 202, Washington, DC 20002, Amount Awarded: $6,370.00

Urban League of Rhode Island, Inc., 246 Prairie Avenue, Providence County, Providence, RI 02905, Amount Awarded: $16,803.00

Washington County Community Action Council, Inc., 101 Summit Avenue, Hagerstown, MD 21740, Amount Awarded: $17,962.00

West Harlem Group Assistance, Inc., 1524/28 Amsterdam Avenue, New York, NY 10031, Amount Awarded: $17,962.00

Westchester Residential Opportunities, Inc., 470 Mamaroneck Avenue, Suite 410, White Plains, NY 10605, Amount Awarded: $19,701.00

YWCA of New Castle County, 233 King Street, Wilmington, DE 19801, Amount Awarded: $20,000.00

Santa Ana (Colonias)

Community Development Corp. of Brownsville, 901 E. Levee Street, Brownsville, TX 78520, Amount Awarded: $24,800.00

West Tennessee Legal Services, 210 W Main Street, Jackson, TN 38301, Amount Awarded: $225,200.00

Santa Ana (HOC)

Administration of Resources and Choices, 209 South Tucson Blvd., P.O. Box 86802, Tucson, AZ 85754, Amount Awarded: $38,232.00

CCCS of Alaska, 208 East 4th Avenue, Anchorage, AK 99501, Amount Awarded: $94,565.00

CCCS of Mid Counties, 2575 Grand Canal Blvd, Suite 100, Stockton, CA 95207, Amount Awarded: $40,841.00

CCCS of Orange County, P.O. Box 11330, 1920 Old Tustin Avenue, Santa Ana, CA 92711-1330, Amount Awarded: $15,207.00

CCCS of San Diego and Imperial Counties, 1550 Hotel Circle N., Suite 110, San Diego, CA 92108-2907, Amount Awarded: $33,354.00

CCCS of South Nevada, 3650 S. Decatur, Suite 30, Las Vegas, NV 89103, Amount Awarded: $40,841.00

Community Action Agency, 124 New 6th Street, Lewiston, ID 83501, Amount Awarded: $56,523.00

Community Housing & Credit Counseling Center (CHCCC), 1001 Willow Street, Chico, CA 95928, Amount Awarded: $10,142.00

Community Housing Resource Center, 3801-A Main Street, Vancouver, WA 98663, Amount Awarded: $58,724.00

Consumer Credit Counselors of Kern County, Inc., 5300 Lennox Avenue, Suite 200, Bakersfield, CA 93309, Amount Awarded: $100,000.00

County of Santa Barbara Housing Authority, 815 W. Ocean Avenue, P.O. Box 397, Lompoc, CA 93438-0397, Amount Awarded: $7,533.00

County of Santa Cruz Housing Authority, 2160 41st Avenue, Capitola, CA 95010-2060, Amount Awarded: $18,500.00

Eden Council for Hope and Opportunity, 770 A Street, Hayward, CA 94541, Amount Awarded: $28,700.00

Fair Housing Council of Orange County, 201 S. Broadway, Santa Ana, CA 92701, Amount Awarded: $45,000.00

Fremont Public Association, P.O. Box 31151, Seattle, WA 98103, Amount Awarded: $75,000.00

Inland Fair Housing and Mediation Board, 1005 Begonia Avenue, Ontario, CA 91762, Amount Awarded: $65,485.00

Labor's Community Service Agency, 5818 N. 7th Street #100, Phoenix, AZ 85014, Amount Awarded: $51,350.00

Legal Aid Society of Hawaii, 924 Bethel Street, Honolulu, HI 96813, Amount Awarded: $25,000.00

Neighborhood House Association, 5660 Copley Drive, San Diego, CA 92111, Amount Awarded: $7,533.00

Open Door Counseling Social Service, 34420 SW Tualatin Valley Highway, Hillsboro, OR 97123, Amount Awarded: $25,492.00

Pierce County Department of Community Services, 8811 South Tacoma Way, Suite 201, Lakewood, WA 98499-4588, Amount Awarded: $30,000.00

Portland Housing Center, 3233 NE Sandy Boulevard, Portland, OR 97232, Amount Awarded: $40,000.00

Project Sentinel, 430 Sherman Avenue, Suite 308, Palo Alto, CA 94306, Amount Awarded: $75,000.00

Sacramento Neighborhood Housing Services, Inc., 3453 5th Avenue, Sacramento, CA 95817, Amount Awarded: $57,000.00

San Diego Home Loan Counseling Service, 3180 University Avenue, Suite 430, San Diego, CA 92104, Amount Awarded: $100,000.00

Spokane Neighborhood Action Program, 2116 East First Avenue, Spokane, WA 99202, Amount Awarded: $77,434.00

Springboard, Non-Profit Consumer Credit Mgmt., 6370 Magnolia Avenue, Suite 200, Riverside, CA 92056, Amount Awarded: $97,097.00

Umpqua Community Action Network, 2448 West Harvard, Roseburg, OR 97470, Amount Awarded: $30,000.00

[FR Doc. 03-540 Filed 1-10-03; 8:45 am]

BILLING CODE 4210-27-P